DEPARTMENT OF TRANSPORTATION

Federal Railroad Administration

Petitions for Waiver of Compliance; Date and Location of Public Hearings

The National Railroad Passenger Corporation (Amtrak), Maryland Mass Transit Administration (MTA), and San Diego Trolley, Inc. (SDTI) each seek a waiver of compliance from 49 CFR 238.203(d)(2) to allow the continued temporary usage of certain railroad passenger equipment that does not comply with FRA's requirements for static end strength contained in 49 CFR 238.203(a)(1). Amtrak, MTA, and SDTI have petitioned FRA for “grandfathering” approval of this passenger equipment pursuant to 49 CFR 238.203(d), which allows the temporary usage of railroad passenger equipment not conforming to FRA's static end strength requirements to continue while a petition for grandfathering approval is being processed, but not later than May 8, 2000, unless FRA has approved the petition. Amtrak, MTA, and SDTI seek to extend beyond the May 8, 2000 date the period during which passenger equipment that is the subject of the grandfathering petitions may operate, until a date that is 30 days after the date on which FRA acts finally on their grandfathering petitions. SDTI also seeks a waiver from the requirement to file a grandfathering petition before November 8, 1999. FRA announces that it will hold a public hearing on each of these waiver requests, as discussed in more detail below by railroad.

National Railroad Passenger Corporation (Amtrak)

[Docket No. FRA-2000-7199]

By public notice published on April 11, 2000 (65 FR 19427), FRA announced the receipt of a petition from Amtrak for a waiver of compliance from the May 8, 2000 date specified in 49 CFR 238.203(d)(2) for cessation of the temporary usage of non-compliant railroad passenger equipment that is the subject of a grandfathering petition filed with FRA, absent FRA approval of the petition by that date. This waiver petition proceeding is identified as Docket No. FRA-2000-7199. On October 18, 1999, Amtrak had filed a grandfathering petition with FRA in which it requested approval to continue using five trainsets that do not meet the static end strength requirements contained in 49 CFR 238.203(a)(1). (This grandfathering petition proceeding is identified as Docket No. FRA-1999-6404.) In the April 11, 2000 notice, FRA invited comments from interested parties on Amtrak's waiver request, and explained that any interested party requesting a public hearing on this request must do so, in writing, by April 20, 2000.

On April 20, 2000, FRA received a request from Bombardier, Inc., for a public hearing in connection with Amtrak's waiver request in Docket No. FRA-2000-7199. Bombardier stated that a public hearing is essential on the basis that the waiver request, as currently docketed, lacks factual support for a determination that continued operation of the Talgo passenger equipment beyond May 8, 2000, is consistent with railroad safety. Bombardier also stated that a public hearing is essential to address FRA's decision to consider this general waiver request in a newly-docketed proceeding.

In accordance with 49 CFR 211.25, FRA has decided to hold a public hearing in Docket No. FRA-2000-7199 on Amtrak's request to extend the May 8, 2000 date specified in 49 CFR 238.203(d) to a date 30 days after FRA acts finally on Amtrak's grandfathering petition. A public hearing is hereby set for 9:00 a.m. on Wednesday, May 3, 2000, at the Federal Railroad Administration, 7th floor, conference room 2, 1120 Vermont Ave., NW, Washington, DC 20590. Interested parties are invited to present oral statements at the hearing. The hearing will be an informal one and will be conducted in accordance with FRA's Rules of Practice (49 CFR 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, as necessary for the conduct of the hearing, will be announced at the hearing.

FRA makes clear that the hearing scheduled for May 3, 2000 is not a hearing on the merits of Amtrak's grandfathering petition, identified as Docket No. FRA-1999-6404.

Maryland Mass Transit Administration

[Docket No. FRA-2000-7286]

FRA announces receipt of a petition from MTA for a waiver of compliance from the May 8, 2000 date specified in 49 CFR 238.203(d)(2) for cessation of the temporary usage of non-compliant railroad passenger equipment that is the subject of a grandfathering petition filed with FRA, absent FRA approval of the petition by that date. This waiver petition proceeding is identified as Docket No. FRA-2000-7286. On November 5, 1999, MTA had filed a grandfathering petition with FRA in which it requested approval to continue using its light rail vehicles on the Central Light Rail Line, which do not meet the static end strength requirements contained in 49 CFR 238.203(a)(1). (This grandfathering petition proceeding is identified as Docket No. FRA-2000-7054; see 65 FR 14336; Mar. 16, 2000.)

MTA states that extending the May 8, 2000 date is consistent with the public interest on the basis that the equipment that is the subject of the grandfathering petition is currently in use in an operation that guarantees the temporal separation of passenger service from limited freight service that operates on the same line, and because cessation of use of the equipment would cause enormous disruption in the Baltimore area due to the heavy and increasing reliance by the public on the light rail service.

Interested parties are invited to participate in this proceeding (Docket No. FRA-2000-7286) by submitting written views, data, or comments. FRA announces that, in accordance with 49 CFR 211.25, it will hold a public hearing on Docket No. FRA-2000-7286 concerning MTA's request to extend the May 8, 2000 date specified in 49 CFR 238.203(d) to a date 30 days after FRA acts finally on MTA's grandfather petition. A public hearing is hereby set for 9:00 a.m. on Wednesday, May 3, 2000, at the Federal Railroad Administration, 7th floor, conference room 2, 1120 Vermont Ave., NW, Washington, DC 20590. Interested parties are invited to present oral statements at the hearing. The hearing will be an informal one and will be conducted in accordance with FRA's Rules of Practice (49 CFR 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, as necessary for the conduct of the hearing, will be announced at the hearing.

Written comments should identify Docket No. FRA-2000-7286 and must be submitted to the Docket Clerk, DOT Management Facility, Room PL-401 (Plaza Level), 400 7th Street, SW, Washington, DC 20590. Communications received by May 3, 2000 will be considered by FRA before final action is taken. Comments received after that date will be considered as far as practicable. All written communications concerning this proceeding are available for examination during regular business hours (9 a.m.-5 p.m.) at the above facility. All documents in the public docket are also available for inspection and copying on the Internet at the docket facility's web site at http://dms.dot.gov.

FRA makes clear that the hearing scheduled for May 3, 2000 is not a hearing on the merits of MTA's grandfathering petition, identified as Docket No. FRA-2000-7054.

San Diego Trolley, Inc.

[Docket No. FRA-2000-7274]

FRA announces the receipt of a petition from SDTI for a waiver of compliance from the May 8, 2000 date specified in 49 CFR 238.203(d)(2) for cessation of the temporary usage of non-compliant railroad passenger equipment that is the subject of a grandfathering petition filed with FRA, absent FRA approval of the petition by that date. SDTI's petition also seeks a waiver of compliance from the November 8, 1999 date specified in 49 CFR 238.203(d)(2) before which a grandfathering petition is required to be filed with FRA. This waiver petition proceeding is identified as Docket No. FRA-2000-7274.

On March 22, 2000, SDTI filed a grandfathering petition with FRA in which it requested approval to continue using its light rail vehicles which do not meet the static end strength requirements contained in 49 CFR 238.203(a)(1). This grandfathering petition proceeding is identified as Docket No. FRA-2000-7137, and FRA is separately publishing notice in the Federal Register of the receipt of this grandfathering petition in accordance with 49 CFR 238.203(f).

SDTI believes that its waiver requests in Docket No. FRA-2000-7274 are in the public interest and consistent with railroad safety, citing the temporal separation of the SDTI's light rail transit operations from freight rail operations on the SDTI system, and existence of an approved system safety program. SDTI believes that allowing the continued operation of its light rail vehicles on its system past the May 8, 2000 date will not jeopardize rail safety.

Interested parties are invited to participate in this proceeding (Docket No. FRA-2000-7274) by submitting written views, data, or comments. FRA announces that, in accordance with 49 CFR 211.25, it will hold a public hearing on Docket No. FRA-2000-7274 concerning SDTI's request to extend the May 8, 2000 date specified in 49 CFR 238.203(d) to a date 30 days after FRA acts finally on SDTI's grandfathering petition, as well as on SDTI's request to waive compliance with the date by which a grandfathering petition is required to be filed with FRA. A public hearing is hereby set for 9:00 a.m. on Wednesday, May 3, 2000, at the Federal Railroad Administration, 7th floor, conference room 2, 1120 Vermont Ave., NW, Washington, DC 20590. Interested parties are invited to present oral statements at the hearing. The hearing will be an informal one and will be conducted in accordance with FRA's Rules of Practice (49 CFR 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, as necessary for the conduct of the hearing, will be announced at the hearing.

Written comments should identify Docket No. FRA-2000-7274 and must be submitted to the Docket Clerk, DOT Management Facility, Room PL-401 (Plaza Level), 400 7th Street, SW, Washington, DC 20590. Communications received by May 3, 2000, will be considered by FRA before final action is taken. Comments received after that date will be considered as far as practicable. All written communications concerning this proceeding are available for examination during regular business hours (9:00 a.m.-5:00 p.m.) at the above facility. All documents in the public docket are also available for inspection and copying on the Internet at the docket facility's web site at http://dms.dot.gov.

FRA makes clear that the hearing scheduled for May 3, 2000 is not a hearing on the merits of SDTI's grandfathering petition, identified as Docket No. FRA-2000-7137.

Issued in Washington, DC, on April 25, 2000.
S. Mark Lindsey,
Acting Deputy Administrator, Federal Railroad Administration.

[FR Doc. 00-10706 Filed 4-27-00; 8:45 am]

BILLING CODE 4910-06-P